NUCLEAR REGULATORY COMMISSION

[Docket No. 50-482]

Wolf Creek Nuclear Operating Corporation, Notice of Withdrawal of Application for Amendment to Facility Operating License

The U.S. Nuclear Regulatory Commission (the Commission) has granted the request of Wolf Creek Nuclear Operating Corporation (the licensee) to withdraw its application dated August 16, 2002, for a proposed amendment to Facility Operating License No. NPF-42 for the Wolf Creek Generating Station, Unit No. 1, located in Coffey County, Kansas.

The proposed amendment would have revised Technical Specification 3.6.3, “Containment Isolation Valves,” by (1) deleting the Note and adding the abbreviation “(CIV)” for containment isolation valve in Condition A of the Actions for the Limiting Condition for Operation, (2) revising the completion time for Required Condition A.1 from 4 hours to as much as 7 days depending on the category of the CIVs, (3) deleting Condition C, and (4) renumbering the later Conditions D and E. The proposed amendment is based on Topical Report WCAP-15791-P, “Risk-Informed Evaluation of Extensions to Containment Isolation Valve Completion Times.”

The Commission had previously issued a Notice of Consideration of Issuance of Amendment published in the Federal Register on October 1, 2002 (67 FR 61686). However, by letter dated June 4, 2004, the licensee withdrew the proposed change.

For further details with respect to this action, see the application for amendment dated August 16, 2002, and the licensee's letter dated June 4, 2004, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated in Rockville, Maryland, this 30th day of July 2004.
For the Nuclear Regulatory Commission.
Jack Donohew,
Senior Project Manager, Section 2, Project Directorate IV, Division of Licensing Project Management, Office of Nuclear Reactor Regulation.

[FR Doc. 04-18215 Filed 8-9-04; 8:45 am]

BILLING CODE 7590-01-P